DEPARTMENT OF COMMERCE

National Oceanic and Atmospheric Administration

[RTID 0648-XD723]

New England Fishery Management Council; Public Meetings

AGENCY: National Marine Fisheries Service (NMFS), National Oceanic and Atmospheric Administration (NOAA), Commerce.

ACTION: Notice of public meetings.

SUMMARY: The New England Fishery Management Council (Council) is conducting six scoping meetings to solicit comments regarding the rang of alternatives to consider in Amendment 10 (A10) to the Atlantic Herring Fishery Management Plan to consider actions affecting New England fisheries in the exclusive economic zone (EEZ). The Council is proposing to take action through A10 to address spatial and temporal allocation and management of Atlantic herring at the management unit level to minimize user conflicts, contribute to optimum yield and support rebuilding of the resource. The Council is also proposing to take action to enhance river herring (alewife and blueback herring) and shad (American shad and hickory shad) avoidance and other catch reduction measures to better support ongoing coastwide restoration efforts for those species. The Council is scheduling the scoping meetings in accordance with the Magnuson-Stevens Fishery Conservation and Management Act and the National Environmental Policy Act. A summary of public comments received will be provided to the Council for formal consideration and action, if appropriate.

DATES: These meetings and webinars will be held between the dates of Friday, March 1, 2024 and Monday, April 22, 2024. See SUPPLEMENTARY INFORMATION for more details on specific dates and times.

ADDRESSES: Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

1. Friday, March 1, 2024, 1-2:30 p.m., Samoset Resort Hotel, 220 Warrenton Street, Rockport, ME 04856;

2. Monday, March 4, 2024, 6-8 p.m., Urban Forestry Center, 45 Elwyn Road, Portsmouth, NH 03801;

3. Tuesday, March 19, 2024, 6-8 p.m., Hampton Inn, 20 Hotel Drive, South Kingstown, RI 02879;

4. Wednesday, March 27, 2024, 6-8 p.m., Hampton Inn, 12 Kendall Rae Place, Buzzards Bay, MA 02532;

5. Wednesday, April 17, 2024, 6-8 p.m., Hilton Hotel, 20 Coogan Boulevard, Mystic, CT 06355, also via webinar. Please register for the webinar here: https://attendee.gotowebinar.com/register/3372208096915656544.

6. Monday, April 22, 2024, from 6-8 p.m. via webinar. Please register for the webinar here: https://attendee.gotowebinar.com/register/3923008446850127706.

Public comments: The public comment deadline is 8 a.m. EST on Tuesday, April 30, 2024. Mail to Cate O'Keefe, Executive Director, New England Fishery Management Council, 50 Water Street, Mill #2, Newburyport, MA 01950. Mark the outside of the envelope “Atlantic Herring Amendment 10 Scoping Comments”. Comments may also be sent via email to comments@nefmc.org—with “Atlantic Herring Amendment 10 Scoping Comments” in the subject line.

Agenda

Council staff will brief the public on the A10 scoping document before receiving comments. These meetings will begin promptly at the time indicated above. If all attendees who wish to do so have provided their comments prior to the end time indicated, the meeting may conclude early. To the extent possible, the Council may extend scoping meetings beyond the end time indicated above to accommodate all attendees who wish to speak.

Although non-emergency issues not contained on the agenda may come before this Council for discussion, those issues may not be the subject of formal action during these meetings. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Cate O'Keefe, Executive Director, at (978) 465-0492, at least 5 days prior to the meeting date.

Authority: 16 U.S.C. 1801 et seq.

Dated: February 12, 2024.
Rey Israel Marquez,
Acting Deputy Director, Office of Sustainable Fisheries, National Marine Fisheries Service.

[FR Doc. 2024-03200 Filed 2-14-24; 8:45 am]

BILLING CODE 3510-22-P